DEPARTMENT OF TRANSPORTATION

Federal Highway Administration

Environmental Impact Statement: Collin County, Texas

AGENCY: Texas Department of Transportation (TxDOT), Federal Highway Administration (FHWA), Department of Transportation.

ACTION: Federal notice of intent to prepare an environmental impact statement (EIS).

SUMMARY: FHWA, on behalf of TxDOT, is issuing this notice to advise the public that an EIS will be prepared for a proposed transportation project to construct an eight-lane freeway along the United States (US) Highway 380 corridor from Coit Road in Prosper (west of McKinney) to Farm-to-Market Road (FM) 1827 (east of McKinney), in Collin County, Texas.

FOR FURTHER INFORMATION CONTACT: Mr. Stephen Endres, Project Manager, TxDOT Dallas District, 4777 E. US Highway 80, Mesquite, Texas 75150; Phone (214) 320-4469 or email: at Stephen.Endres@txdot.gov. TxDOT's normal business hours are 8:00 a.m.-5:00 p.m. (central time), Monday through Friday.

SUPPLEMENTARY INFORMATION: The environmental review, consultation, and other actions required by applicable Federal environmental laws for this project are being, or have been, carried-out by TxDOT pursuant to 23 U.S.C. 327 and a Memorandum of Understanding dated December 9, 2019, and executed by FHWA and TxDOT.

The purpose of the proposed project is to manage congestion and improve east-west connectivity and safety across the project area. The project is needed due to regional population growth, increasing traffic congestion, and crash rates higher than the statewide average. Project alternatives include improvement of the existing US 380 alignment (a distance of approximately 12 miles) and new location alternatives ranging in length from approximately 14.8 miles to 16.3 miles that would pass through the communities of Prosper, McKinney, and New Hope, and unincorporated areas of Collin County. The proposed project would provide an access-controlled freeway with one-way frontage roads on each side within an anticipated right-of-way width of 330 to 400 feet. The typical freeway section would consist of four 12-foot (ft.) travel lanes in each direction and 10 ft. inside and outside shoulders. Grade-separated interchanges would include 14 ft. ramps with 2 ft. inside shoulders and 6 ft. outside shoulders, with curb and gutter. Bridges and overpasses along the main lanes would have a desired vertical clearance of 18.5 ft with vertical clearance over railroads desired at 23.5 ft.

In April 2020, TxDOT completed the US 380 Feasibility Study for Collin County, which recommended an alignment for an improved US 380 across Collin County. The Coit Road to FM 1827 section of the Recommended Alignment from the Feasibility Study is the basis for development of the alternatives to be considered in the EIS. The EIS will evaluate a range of build alternatives and a no-build alternative. Possible build alternatives include improvement of the existing US 380 alignment, the Recommended Alignment between Coit Road and FM 1827 from the 2020 US 380 Feasibility Study, and three additional new location alternatives that consider optional alignments through the Town of Prosper within the western portion of the project area and along the East Fork of the Trinity River within the eastern portion of the project area. The following 5 segments combine to form the new location build alternatives under consideration.

Segment A connects Coit Road on the west and the future Ridge Road and Bloomdale Road intersection on the east. This segment follows existing US 380 from Coit Road to near the approximate alignment of future Ridge Road where it turns north and connects to Bloomdale Road. Segment A was a component of the Feasibility Study Recommended Alignment.

Segment B also connects Coit Road on the west and the future Ridge Road and Bloomdale Road intersection to the east. This segment follows existing US 380 from Coit Road to west of Custer Road (FM 2478) where it turns northeast to intersect with Custer Road and East First Street, then continues northeast to connect to Bloomdale Road at the future extension of Ridge Road.

Segment C begins at State Highway (SH) 5 extending in a southeasterly direction across the Dallas Area Rapid Transit (DART) rail line and the East Fork of the Trinity River, then shifts to a more southerly direction east of and parallel to the East Fork of the Trinity River to connect to existing US 380 near FM 1827.

Segment D also begins at SH 5 extending in a southerly direction across the DART rail line and the East Fork of the Trinity River and continues in a southerly direction west of and parallel to the East Fork of the Trinity River connecting to US 380 near Airport Drive, and following existing US 380 to the east to FM 1827. Segment D was a component of the Feasibility Study Recommended Alignment.

Segment E extends roughly along the alignment of existing Bloomdale Road through north McKinney beginning at the proposed intersection of Ridge Road and Bloomdale Road on the west and SH 5 on the east. This segment includes a new interchange connection with US 75 and SH 5. The location of Segment E is constrained by existing development and existing and proposed utilities along Bloomdale Road. Segment E was a component of the Feasibility Study Recommended Alignment and is a common segment in all the new location build alternatives.

These segments, when linked end-to-end between Coit Road and FM 1827, result in the Purple, Blue, Brown, and Gold Alternatives described below. The Green Alternative to improve the existing US 380 alignment is composed of one segment (Segment F) extending from Coit Road to FM 1827 along existing US 380.

The Purple Alternative is composed of Segments A, E, and D and is approximately 15.8 miles long. It represents the section of the Recommended Alignment from the 2020 Feasibility Study between Coit Road and FM 1827. The Purple Alternative begins at the intersection of Coit Road and US 380 in the Town of Prosper and travels around the north side of McKinney turning south near US 75 and SH 5 to extend along the west side of the East Fork of the Trinity River to connect back to existing US 380 and FM 1827. Grade-separated interchanges would be considered at US 380/Coit Road, the alignment's departure from existing US 380 at future Ridge Road, Wilmeth Road, Ridge Road (McKinney city limits/Collin County line), Lake Forest Drive, County Road (CR) 1006, future Hardin Road (McKinney city limits), Laud Howell development, US 75 (multi-level), SH 5, McIntyre Road, and at its connection back to US 380 near Airport Drive west of FM 1827. Additional interchange locations may be studied.

The Blue Alternative is composed of Segments A, E, and C and is approximately 15.6 miles long. The Blue Alternative differs from the Purple Alternative between US 75/SH 5 and existing US 380 east of McKinney where the alignment follows that of Segment C parallel to and east of the East Fork of the Trinity River. The alignment would connect back to existing US 380 near FM 1827. Grade-separated interchanges would be considered at US 380/Coit Road, the alignment's departure from existing US 380 at future Ridge Road, Wilmeth Road, Ridge Road (McKinney city limits/Collin County line), Lake Forest Drive, CR 1006, future Hardin Road (McKinney city limits), Laud Howell development, US 75 (multi-level), SH 5, CR 338, CR 2933, and at its connection back to US 380 near FM 1827. Additional interchange locations may be studied.

The Brown Alternative, approximately 14.8 miles long, is composed of Segments B, E, and C. It begins at Coit Road and existing US 380 and follows the existing US 380 alignment to west of Custer Road where it turns north and east to travel around the north side of McKinney, connect to US 75/SH 5, and then follows the alignment east of and parallel to the East Fork of the Trinity River to connect to existing US 380 near FM 1827. The Brown Alternative differs from the Blue Alternative in the alignment from Coit Road to the future intersection of Ridge Road and Bloomdale Road (Segment B). Grade-separated interchanges would be considered at the alignment's departure from existing US 380 west of Custer Road, at Custer Road/First St., future Wilmeth Road, future N. Stonebridge Drive, Ridge Road (McKinney city limits/Collin County line), Lake Forest Drive, CR 1006, future Hardin Road (McKinney city limits), Laud Howell development, US 75 (multi-level), SH 5, CR 338, CR 2933, and at its connection back to US 380 near FM 1827. Additional interchange locations may be studied.

The Gold Alternative, composed of Segments B, D, and E, is approximately 16.3 miles long and matches the Brown Alternative between Coit Road and US 75/SH 5 where it turns south along the west side of the East Fork of the Trinity River to connect to existing US 380 near Airport Drive and then follows the exiting US 380 alignment east to FM 1827. Grade-separated interchanges would be considered at the alignment's departure from existing US 380 west of Custer Road, at Custer Road/First St., future Wilmeth Road, future N. Stonebridge Drive, Ridge Road (McKinney city limits/Collin County line), Lake Forest Drive, CR 1006, future Hardin Road (McKinney city limits), Laud Howell development, US 75 (multi-level), SH 5, McIntyre Road, and at its connection back to US 380 near Airport Drive west of FM 1827. Additional interchange locations may be studied.

The Green Alternative (Segment F) would widen the existing US 380 corridor from Coit Road to FM 1827. Grade-separated interchanges would be provided at Coit Road, Custer Road, Stonebridge Drive, Grassmere Lane, Ridge Road, Lake Forest Road, Hardin Road, Community Ave., US 75, SH 5, Airport Drive, and FM 1827.

The new location build alternatives share some common alignments, with potential impacts to wetlands and waters of the US, floodplain/floodway encroachment and need for compensatory storage, conversion of farmland to transportation use, residential and business displacements, cultural resources, wildlife/habitat, air quality, traffic noise, the visual environment, induced growth, and cumulative effects. The Green Alternative would result in potential residential and business displacements, including low-income and minority residents, and impacts to potential historic properties, community facilities, public parks (Section 4(f)), air quality, traffic noise, property access, the visual environment, and cumulative effects.

The proposed action may require issuance of an Individual or Nationwide Permit under Section 404 of the Clean Water Act, Section 401 Water Quality Certification, Section 402/Texas Pollution Discharge Elimination System Permit; conformance with Executive Orders on Environmental Justice (12898), Limited English Proficiency (13166), Wetlands (11990), Floodplain Management (11988), Invasive Species (13112); and compliance with Section 106 of the National Historic Preservation Act, Section 7 of the Endangered Species Act, the Migratory Bird Treaty Act, Section 4(f) of the DOT Act (49 U.S.C. 303), Section 6(f) of the Land and Water Conservation Act (16 U.S.C. 4601), Title VI of the Civil Rights Act, and other applicable Federal and State regulations.

TxDOT anticipates completing the study process for this proposed action by December 2022.

TxDOT will issue a single Final Environmental Impact Statement and Record of Decision document pursuant to 23 U.S.C. 139(n)(2), unless TxDOT determines statutory criteria or practicability considerations preclude issuance of a combined document.

In accordance with 23 U.S.C. 139, cooperating agencies, participating agencies, and the public will be given an opportunity for continued input on project development. A virtual public scoping meeting is planned to be held on January 19, 2021. The meeting materials will be posted on http://www.drive380.com starting January 19, 2021, and will remain available through February 2, 2021, which is the date the comment period ends. The meeting will be hosted online and provide an opportunity for the public to review and comment on the draft coordination plan and schedule, the project purpose and need, the range of alternatives, and methodologies and level of detail for analyzing alternatives. It will also allow the public an opportunity to provide input on any expected environmental impacts, anticipated permits or other authorizations, and any significant issues that should be analyzed in depth in the EIS. In addition to the public scoping meeting, a public meeting will be held during development of the draft EIS, and a public hearing will be held after the draft EIS is prepared. Public notice will be given of the time and place of the meeting and hearing.

The public scoping meeting, public meeting, and public hearing will be conducted in English. If you need an interpreter or document translator because English is not your primary language or you have difficulty communicating effectively in English, one will be provided to you. If you have a disability and need assistance, special arrangements can be made to accommodate most needs. If you need interpretation or translation services or you are a person with a disability who requires an accommodation to participate in the public scoping meeting, please contact Mr. Patrick Clarke, Public Information Officer, Dallas District at (214) 320-4483 no later than 4 p.m. (central time), on January 14, 2021. Please be aware that advance notice is required as some services and accommodations may require time for the Texas Department of Transportation to arrange.

The public is requested to identify in writing potential alternatives, information, and analyses relevant to this proposed project. Such information may be provided by email to Mr. Stephen Endres, TxDOT Project Manager at Stephen.Endres@txdot.gov, or by mail to the TxDOT Dallas District, 4777 E. US Highway 80, Mesquite, Texas 75150. Such information must be received by February 2, 2021.

(Catalog of Federal Domestic Assistance Program Number 20.205, Highway Planning and Construction.)

Michael T. Leary,
Director, Planning and Program Development, Federal Highway Administration.

[FR Doc. 2020-27275 Filed 12-10-20; 8:45 am]

BILLING CODE 4910-22-P